DEPARTMENT OF COMMERCE

National Oceanic and Atmospheric Administration

50 CFR Part 660

[Docket No. 240613-0161]

RIN 0648-BM85

Magnuson-Stevens Act Provisions; Fisheries Off West Coast States; Pacific Coast Groundfish Fishery; 2024 Harvest Specifications for Pacific Whiting and 2024 Pacific Whiting Tribal Allocation

AGENCY: National Marine Fisheries Service (NMFS), National Oceanic and Atmospheric Administration (NOAA), Commerce.

ACTION: Final rule.

SUMMARY: This rule implements the domestic 2024 harvest specifications for Pacific whiting fisheries off the coasts of Washington, Oregon, and California (collectively, the West Coast), including the 2024 Tribal allocation for the Pacific whiting fishery, the non-Tribal sector allocations, and a set-aside for incidental mortality in research activities and non-groundfish fisheries. NMFS issues this final rule for the 2024 Pacific whiting fishery under the authority of the Pacific Coast Groundfish Fishery Management Plan, the Magnuson-Stevens Fishery Conservation and Management Act, the Pacific Whiting Act of 2006, and other applicable laws. These measures are intended to help prevent overfishing, achieve optimum yield, ensure that management measures are based on the best scientific information available, and provide for the implementation of Tribal treaty fishing rights.

DATES: Effective June 24, 2024.

ADDRESSES:

Electronic Access

This final rule is accessible via the internet at the Office of the Federal Register website at https://www.federalregister.gov.

Background information for this action and analytical documents for the Regulatory Flexibility Act (RFA), and National Environmental Policy Act (NEPA) are available at the NMFS West Coast Region website at: https://www.fisheries.noaa.gov/action/2024-harvest-specifications-pacific-whiting-and-2024-tribal-allocation.

NEPA documents for West Coast groundfish actions are also available at: https://www.fisheries.noaa.gov/west-coast/laws-and-policies/groundfish-actions-nepa-documents and at the Pacific Fishery Management Council's website at http://www.pcouncil.org.

Additional background information for the Pacific Hake/Whiting Treaty can be found at: https://www.fisheries.noaa.gov/west-coast/laws-policies/pacific-hake-whiting-treaty.

FOR FURTHER INFORMATION CONTACT: Colin Sayre, phone: 206-526-4656, and email: Colin.Sayre@noaa.gov.

SUPPLEMENTARY INFORMATION:

Background

The transboundary stock of Pacific whiting is managed through the Agreement Between the Government of the United States of America and the Government of Canada on Pacific Hake/Whiting of 2003 (Agreement). The Agreement establishes bilateral management bodies to implement the terms of the Agreement, including the Joint Management Committee (JMC), which recommends the annual catch limit for Pacific whiting. NMFS issued a proposed rule on April 30, 2024 (89 FR 34188) that describes the Agreement, including the establishment of F-40 percent default harvest rate, the explicit allocation of the Pacific whiting coastwide total allowable catch (TAC) to the United States (73.88 percent) and Canada (26.12 percent), the bilateral bodies to implement the terms of the Agreement, including the JMC, and the process used to determine the coastwide TAC under the Agreement, including adjusting the TAC for carryovers from the prior year.

2024 TAC Recommendation

The Treaty's Advisory Panel (AP) and the JMC met in Lynnwood, Washington February 27-29, 2024, to develop advice on a 2024 coastwide TAC. The AP provided its 2024 TAC recommendation to the JMC on February 29, 2024. The JMC reviewed the advice of the JTC, the Scientific Review Group (SRG), and the AP, and agreed on a TAC recommendation for transmittal to the United States and Canadian Governments.

As detailed in the proposed rule (89 FR 34188, April 30, 2024), the Agreement directs the JMC to base the catch limit recommendation on the F-40 default harvest rate, unless scientific evidence demonstrates that a different harvest rate is necessary to sustain the offshore Pacific whiting resource. The F-40 default harvest rate is a fishing mortality rate that would reduce the spawning biomass of Pacific whiting to 40 percent of the estimated unfished level. After consideration of the 2024 stock assessment and other relevant scientific information, the JMC did not use the default harvest rate, and instead agreed on a more conservative approach. There were two primary reasons for choosing a TAC below the default harvest rate: (1) uncertainty regarding the size of the 2020 and 2021 year-classes led the JMC to conclude that using the default harvest rate could be too risky if these cohorts are smaller than estimated; and (2) the fact that the 2023 acoustic survey biomass was the third-lowest in the survey time series. The JMC concluded that both of these factors warranted setting the coastwide TAC below the 2023 value of 625,000 metric tons (mt), and lower than the level that would result from application of the F-40 default harvest rate. This conservative approach was endorsed by the AP and is consistent with Article III(1) of the Agreement.

The Agreement allows an adjusted TAC when either country's catch exceeds or is less than its TAC in the prior year. If the catch is in excess of the country's TAC, the amount of the overage is deducted from that country's TAC in the following year. If catch falls short of the country's TAC, a portion of the shortfall is carried over and added to the country's TAC for the following year. Under the Agreement, carryover adjustments cannot not exceed 15 percent of a party country's unadjusted TAC for the year in which the shortfall occurred. In 2023, neither country fully attained their respective TACs. The percentage of the U.S. TAC attained for 2023 is detailed in the Final Regulatory Flexibility Analysis (FRFA) (see the ADDRESSES section), which is summarized in the Classification section below.

For the 2024 Pacific whiting fishery, the JMC recommended a coastwide TAC of 473,513 mt prior to adjustment. Based on Article III(2) of the Agreement, the 73.88 percent U.S. share of the unadjusted coastwide TAC is 349,831 mt. Consistent with Article II(5)(b) of the Agreement, a carryover of 60,203 mt was added to the U.S. share for an adjusted U.S. TAC of 410,034 mt. The 26.12 percent Canadian share of the unadjusted coastwide TAC, consistent with Article III(2) of the Agreement, is 123,681 mt, and a carryover of 21,285 mt was added to the Canadian share for an adjusted Canadian TAC of 144,966 mt. The total adjusted coastwide TAC is 555,000 mt for 2024.

This recommendation is consistent with the best available scientific information, and provisions of the Agreement and the Whiting Act of 2006 (Whiting Act). The recommendation was transmitted via letter to the United States and Canadian Governments on March 05, 2024. NMFS, under delegation of authority from the Secretary of Commerce, approved the TAC recommendation of 410,034 mt for U.S. fisheries on March 29, 2024.

This final rule announces the adjusted coastwide TAC of 555,000 mt, an adjusted U.S. TAC of 410,034 mt, and establishes the domestic 2024 Pacific whiting harvest specifications, which constitutes the 2024 Tribal allocation, the 2024 season allocations for three non-Tribal commercial whiting sectors, and a set-aside for incidental mortality from research activities and in the non-groundfish trawl fisheries (e.g. pink shrimp fishery). The Tribal and non-Tribal allocations for Pacific whiting, as well as the set-aside, are effective until December 31, 2024.

Tribal Allocations

This final rule establishes the Tribal allocations of Pacific whiting for 2024 as described in the proposed rule (89 FR 34188, April 30, 2024). Four Washington coastal treaty Indian Tribes—the Makah Indian Tribe, Quileute Indian Tribe, Quinault Indian Nation, and the Hoh Indian Tribe—have treaty rights to harvest Pacific whiting in their usual and accustomed fishing areas in U.S. waters. Regulations at 50 CFR 660.50 set forth procedures to coordinate with the Tribes to exercise their treaty right in ocean fisheries with the Pacific Fishery Management Council (Council) and NMFS.

NMFS allocates a portion of the U.S. TAC of Pacific whiting to the Tribal fishery, following the process established in 50 CFR 660.50(d). Regulations for the Pacific Coast Groundfish Fishery Management Plan (FMP) specify that the Tribal allocation is subtracted from the total U.S. Pacific whiting TAC. NMFS contacted the Tribes between September and December of 2023 to determine their plans for participation in the 2024 Tribal Pacific whiting fishery. Only the Makah Indian Tribe indicated its intent to continue to fish and requested 17.5 percent of the U.S. Pacific whiting allocation, which is identical to the percentage allotted in previous fishing years. In this final rule, NMFS will implement the 2024 Tribal allocation of 71,755.95 mt, which is 17.5 percent of the total U.S. TAC.

As with prior Tribal allocations of Pacific whiting, this final rule is not intended to establish a precedent for future Pacific whiting seasons, or for the determination of the total amount of Pacific whiting to which the Tribes are entitled under their treaty right. In 2009, NMFS, the States of Washington and Oregon, and the coastal treaty Tribes started a process to determine the long-term Tribal allocation for Pacific whiting; however, no long-term allocation has been determined. The long-term Tribal treaty amount will be based on further development of scientific information and additional coordination and discussion with and among the coastal treaty Tribes and the States of Washington and Oregon.

Non-Tribal Research and Bycatch Set-Asides

The U.S. non-Tribal whiting fishery is managed under the Council's Pacific Coast Groundfish FMP. Each year, the Council recommends a set-aside to accommodate incidental mortality of Pacific whiting in research activities and the state-managed pink shrimp fishery (a non-groundfish fishery). The set-aside is based on estimates of scientific research catch and estimated bycatch mortality in non-groundfish fisheries. At its November 2023 meeting, the Council recommended an incidental mortality set-aside of 750 mt for 2024. This set-aside is unchanged from the 750 mt set-aside amount recommended by the Council in November of 2022 and implemented for incidental mortality in 2023. This final rule implements the Council's recommendation for a 750 mt set-aside for 2024.

Non-Tribal Harvest Guidelines and Allocations

This final rule implements the fishery harvest guideline (HG) (i.e., the non-Tribal allocation) as described in the proposed rule (89 FR 34188, April 30, 2024). The 2024 fishery HG for Pacific whiting is 337,528.05 mt. This amount was determined by deducting the 71,755.95 mt Tribal allocation and the 750 mt set-aside for scientific research catch and fishing mortality in non-groundfish fisheries from the U.S. adjusted TAC of 410,034 mt. Federal regulations further allocate the fishery HG among the three non-tribal sectors of the Pacific whiting fishery: (1) the catcher/processor (C/P) Co-op Program; (2) the Mothership (MS) Co-op Program; and (3) the Shorebased Individual Fishing Quota (IFQ) Program. The C/P Co-op Program is allocated 34 percent (114,759.53 mt for 2024), the MS Co-op Program is allocated 24 percent (81,006.73 mt for 2024), and the Shorebased IFQ Program is allocated 42 percent (141,761.78 mt for 2024). The fishery south of 42° N lat. may not take more than 7,088 mt (5 percent of the Shorebased IFQ Program allocation) prior to May 1, the start of the primary Pacific whiting season north of 42° N lat.

Table 1—2024 U.S. Pacific Whiting Allocations in Metric Tons
Sector | 2024 Pacific whiting allocation (mt)
Tribal | 71,755.95
Catcher/Processor (C/P) Co-op Program | 114,759.53
Mothership (MS) Co-op Program | 81,006.73
Shorebased IFQ Program | 141,761.78

This rule is implemented under the statutory and regulatory authority of sections 304(b) and 305(d) of the Magnuson-Stevens Fishery Conservation and Management Act (Magnuson-Stevens Act), the Whiting Act, the regulations governing the groundfish fishery at 50 CFR 660.5 through 660.360, and other applicable laws. Pursuant to section 305(d) of the Magnuson-Stevens Act and regulations at 50 CFR 660.50, this final rule is necessary to ensure the fishery is managed in a manner consistent with treaty rights of four Treaty Tribes to fish in their “usual and accustomed grounds and stations” in common with non-Tribal citizens (United States v. Washington, 384 F. Supp. 313 (W.D. Wash. 1974)).

Comments and Responses

NMFS issued a proposed rule on April 30, 2024 (89 FR 34188). The comment period on the proposed rule closed May 15, 2024. One public comment was received from an individual member of the public suggesting alternate punctuation for the title of this rule, otherwise no relevant comments were received during the public comment period.

Changes From the Proposed Rule

No substantive changes from the proposed action were made to the final action. However, this final rule corrects typographical errors that were published in the proposed rule (89 FR 34188, April 30, 2024). Previously published numerical values (87 FR 77007, December 16, 2022; 88 FR 89313, December 27, 2023) for the harvest specifications of non-whiting groundfish species were incorrectly transcribed in tables 2a and 2b to part 660 subpart C-2024, and table 1 to § 660.140(d)(1)(ii)(D) of the proposed regulations. Specifically, in table 2a to part 660 subpart C-2024, the ACL for Canary Rockfish ACL was misprinted as “12,296” mt and is corrected to “1,296” mt. In table 2b to part 660 subpart C-2024 the Fishery HG for Arrowtooth flounder was misprinted as “12” mt, and is corrected to “12,083” mt. In and table 1 to paragraph § 660.140(d)(1)(ii)(D) the 2024 Shorebased trawl allocations (mt) for 7 species and stock allocations were misprinted and corrected as follows: Yelloweye rockfish misprinted as “4.42” is corrected to “3.41”; Canary rockfish misprinted as “830.22” is corrected to “851.42”; Darkblotched rockfish misprinted as “613.53” is corrected to “644.34”; Sablefish North of 36° N lat. misprinted as “3,559.38” is corrected to “3,535.91”; Sablefish South of 36° N lat. misprinted as “889.00” is corrected to “909.55”; Yellowtail rockfish misprinted as “3,668.56” is corrected to “3,431.69”; Shelf rockfish complex South of 40°10′ N lat. misprinted as “163.02” is corrected to “162.43”.

Classification

The Administrator, West Coast Region, NMFS, determined that the final rule is necessary for the conservation and management of the Pacific whiting and that it is consistent with sections 304(b) and 305(d), and other provisions of the Magnuson-Stevens Act, the Pacific Coast Groundfish FMP, Whiting Act, and other applicable laws.

Pursuant to 5 U.S.C. 553(d)(3), the NMFS Assistant Administrator finds good cause to waive the 30-day delay in the date of effectiveness for this final rule because such a delay would be contrary to the public interest. The Pacific whiting fishery season began on May 1, 2024 under interim allocations based on a proxy coastwide TAC analyzed in the 2024 Pacific whiting stock assessment (see ADDRESSES). This proxy coastwide TAC was 483,960 mt, which is approximately 13 percent lower than the recommended 2024 coastwide TAC of 555,000 mt announced in the proposed rule and approved by the Secretary of Commerce. If the non-Tribal commercial sectors fully harvest this partial interim allocation before the final TAC is implemented, NMFS will be required to close the Pacific whiting fishery until such time that the full 2024 season allocation is implemented. Timely implementation of the full TAC will avoid the need to close the Pacific whiting fishery if the current interim allocations are fully harvested.

As the Pacific whiting season is only 6 months long, open from May 1 to December 31, a 30-day delay in the implementation of the full 2024 season allocations represents a significant operational limitation to the commercial whiting sectors. If this final rule were delayed by 30 days, the Pacific whiting commercial sectors would not be able to fish under the final catch limits for Pacific whiting for that time period, be at risk of potential premature season closure, and would not be able to realize the full level of economic opportunity this rule provides. This rule increases catch limits for Pacific whiting compared to the restrictive partial interim allocation the fishery is currently operating under, it therefore finds good cause to waive the 30-day delay in the date of effectiveness requirement.

Additionally, many vessels in the Pacific whiting fishery also participate in the Alaskan pollock fishery. The Alaskan pollock fishery B-season typically runs from mid-June to mid-November of each year, overlapping with the May 1 to December 31 Pacific whiting season. Vessels that participate in both the West Coast Pacific whiting fishery, and the Alaskan pollock fishery must time operations and travel between these fisheries. Without having access to their full 2024 Pacific whiting season allocations, fishery participants are unable to plan the timing of their operations, and are restricted in their participation in these fisheries for the 2024 season. Issuing complete 2024 Pacific whiting allocations to quota owners in a timely fashion ensures they can plan their participation for the year in both the Pacific whiting and Alaskan pollock fisheries. Implementing this rule upon the date of publication relieves the limitation in planning vessel operations and provides the commercial whiting fleet more opportunity and greater flexibility to harvest the optimal yield. Waiving the 30-day delay in effectiveness will allow this final rule to more fully benefit the fishery through increased fishing opportunities as described in the preamble of this rule.

This rulemaking could not be completed prior to the May 1 start date of the 2024 Pacific Whiting primary fishing season due to the timeline required by the Agreement, which resulted in the short time frame between the approval of the TAC recommendation and the start of the fishing season. The AP and JMC met in Lynnwood, Washington on February 26-29, 2024, to develop a recommendation for a 2024 coastwide TAC. At this meeting, the JMC agreed on a TAC recommendation, which was transmitted to the United States and Canadian Governments on March 4, 2024. The Department of Commerce consulted with the Department of State on the recommended TAC and concurred with the NMFS West Coast Region on March 14, 2024 to accept the JMC recommended adjusted TAC for 2024. NMFS, under delegation of authority from the Secretary of Commerce, approved the TAC recommendation U.S. fisheries on March 29, 2024. This rulemaking proceeded once the JMC agreed on a recommended coastwide TAC, and the Department of Commerce in consultation with the Department of State reviewed and approved the recommended U.S. TAC. The proposed rule was published on April 30, 2024 (89 FR 34188). The 2024 Pacific whiting primary fishing season began shortly thereafter on May 1, 2024. The public comment period closed on May 15, 2024. Therefore, NMFS could not issue full season allocations implemented under this final rule prior to the May 1 start date of the Pacific whiting fishery.

Waiving the 30-day delay in effectiveness will not have a negative impact on any entities, as there are no new compliance requirements or other burdens placed on the fishing community with this rule. Making this rule effective immediately would also serve the best interests of the public because it will allow for the longest possible fishing season for Pacific whiting and therefore the best possible economic outcome for those whose livelihoods depend on this fishery.

The Office of Management and Budget has determined that this final rule is not significant for purposes of Executive Order 12866.

A range of potential total harvest levels for Pacific whiting has been considered in the Final Environmental Impact Statement (FEIS) for Harvest Specifications and Management Measures for 2015-2016 and Biennial Periods thereafter (2015/16 FEIS), and in the Environmental Assessment (EA) and the Regulatory Impact Review (RIR) included in the analytical document for Amendment 30 to the Pacific Coast Groundfish FMP and 2023-2024 Harvest Specifications and Management Measures. These documents are available from NMFS (see ADDRESSES). The 2015/16 FEIS examined the harvest specifications and management measures for 2015-2016 and gave 10-year projections for routinely adjusted harvest specifications and management measures. The 10-year projections were produced to evaluate the impacts of the ongoing implementation of harvest specifications and management measures and to evaluate the impacts of the routine adjustments that are the main component of each biennial cycle. The EA for the 2023-2024 cycle builds on the 2015/16 FEIS and focuses on the harvest specifications and management measures that were not within the scope of the 10-year projections in the 2015/16 FEIS.

Final Regulatory Flexibility Analysis

NMFS issued a proposed rule on April 30, 2024 (89 FR 34188) for the 2024 Harvest Specifications for Pacific whiting, and 2024 Tribal allocation for Pacific whiting. An Initial Regulatory Flexibility Analysis (IRFA) was prepared and summarized in the Classification section of the preamble to the proposed rule. The comment period on the proposed rule closed May 15, 2024. NMFS did not receive any relevant public comments on the proposed rule. The Chief Counsel for Advocacy of the Small Business Administration (SBA) did not file any comments on the IRFA or the proposed rule. The description of this action, its purpose, and its legal basis are described in the preamble to the proposed rule and are not repeated here. A FRFA was prepared and incorporates the IRFA. There were no public comments received on the IRFA. NMFS also prepared a RIR for this action. A copy of the RIR/FRFA is available from NMFS (see ADDRESSES). A summary of the FRFA, per the requirements of 5 U.S.C. 604, follows.

Under the RFA, the term “small entities” includes small businesses, small organizations, and small governmental jurisdictions. For purposes of complying with the RFA, NMFS has established size criteria for entities involved in the fishing industry that qualify as small businesses. A business involved in fish harvesting is a small business if it is independently owned and operated and not dominant in its field of operation (including its affiliates) and if it has combined annual receipts not in excess of $11 million for all its affiliated operations worldwide (80 FR 81194, December 29, 2015; 50 CFR part 200). In addition, the SBA has established size criteria for other entities that may be affected by this final rule. A wholesale business servicing the fishing industry is a small business if it employs 100 or fewer persons on a full time, part time, temporary, or other basis, at all its affiliated operations worldwide. A small organization is any nonprofit enterprise that is independently owned and operated and is not dominant in its field. A seafood processor is a small business if it is independently owned and operated, not dominant in its field of operation, and employs 750 or fewer persons on a full time, part time, temporary, or other basis, at all its affiliated operations worldwide (see North American Industry Classification System (NAICS) 311710 at 13 CFR 121.201). For purposes of rulemaking, NMFS is also applying the seafood processor standard to C/Ps because whiting C/Ps earn the majority of the revenue from processed seafood product.

A Summary of the Significant Issues Raised by the Public in Response to the IRFA, a Summary of the Agency's Assessment of Such Issues, and a Statement of Any Changes Made in the Final Rule as a Result of Such Comments

NMFS issued a proposed rule on April 30, 2024 (89 FR 34188). The comment period on the proposed rule closed May 15, 2024. No relevant comments were received during the public comment period.

No substantive changes from the proposed action are being considered in were made to the final action. However, this final rule corrects typographical errors that were published in the proposed rule (89 FR 34188, April 30, 2024). Previously published numerical values (87 FR 77007, December 16, 2022; 88 FR 89313, December 27, 2023) for the harvest specifications of non-whiting groundfish species were incorrectly transcribed in tables 2a and 2b to part 660 subpart C-2024, and table 1 to paragraph § 660.140(d)(1)(ii)(D) of the proposed regulations. Specifically, in table 2a to part 660 subpart C-2024, the ACL for Canary Rockfish ACL was misprinted as “12,296” mt and is corrected to “1,296” mt. In table 2b to part 660 subpart C-2024 the Fishery HG for Arrowtooth flounder was misprinted as “12” mt, and is corrected to “12,083” mt. In and table 1 to paragraph § 660.140(d)(1)(ii)(D) the 2024 Shorebased trawl allocations (mt) for 7 species and stock allocations were misprinted and corrected as follows: Yelloweye rockfish misprinted as “4.42” is corrected to “3.41”; Canary rockfish misprinted as “830.22” is corrected to “851.42”; Darkblotched rockfish misprinted as “613.53” is corrected to “644.34”; Sablefish North of 36° N lat. misprinted as “3,559.38” is corrected to “3,535.91”; Sablefish South of 36° N lat. misprinted as “889.00” is corrected to “909.55”; Yellowtail rockfish misprinted as “3,668.56” is corrected to “3,431.69”; Shelf rockfish complex South of 40°10′ N lat. misprinted as “163.02” is corrected to “162.43”.

Description and Estimate of the Number of Small Entities to Which the Rule Applies, and Estimate of Economic Impacts by Entity Size and Industry

This final rule affects how Pacific whiting is allocated to the following sectors/programs: Tribal, Shorebased IFQ Program Trawl Fishery, MS Co-op Program Whiting At-sea Trawl Fishery, and C/P Co-op Program Whiting At-sea Trawl Fishery. The amount of Pacific whiting allocated to these sectors is based on the U.S. TAC, which is developed and approved through the process set out in the Agreement and the Whiting Act.

NMFS expects one Tribal entity, the Makah Tribe, to fish for Pacific whiting in 2024. Tribes are not considered small entities for the purposes of RFA. Impacts to Tribes are nevertheless considered in this analysis.

This final rule directly affects the C/P Co-op Program, which is composed of 10 C/P endorsed permits owned by 3 companies that have formed a single co-op. These co-ops are considered large entities both because they have participants that are large entities and because they have in total more than 750 employees worldwide including affiliates.

This final rule also directly affects the Shorebased IFQ Program. As of March 2024, the Shorebased IFQ Program is composed of 163 Quota Share permits/accounts (122 of which were allocated Pacific whiting quota pounds), and 48 licensed first receiver sites, of which 16 sites are owned by 10 companies that receive Pacific whiting. Of these companies that receive Pacific whiting, none are considered small entities.

This final rule also directly affects participants in the MS Co-op Program, the limited access program that applies to eligible harvesters and processors in the MS sector of the Pacific whiting at-sea trawl fishery. This program consists of 6 MS processor permits, and a catcher vessel fleet currently composed of a single co-op, with 34 Mothership/Catcher Vessel (MS/CV) endorsed permits (with 3 permits each having 2 catch history assignments).

Although there are 3 non-tribal sectors (the C/P Co-op Program, the Shorebased IFQ Program, and the MS Co-op Program), many companies participate in 2 different sectors and some participate in all 3 sectors, as well as participate in other non-whiting groundfish fisheries. As part of the permit application processes for the non-tribal fisheries, NMFS asks permit applicants if they considered themselves a small business based on a review of the SBA size criteria and asks each permit applicant to provide detailed ownership information. Data on employment worldwide, including affiliates, are not available for these companies, which generally operate in Alaska as well as on the West Coast in non-whiting groundfish fisheries, and which may have operations in other countries, as well. NMFS requests that limited entry permit holders self-report their size status. For 2024, all 10 C/P permits reported that they are not small businesses, as did 8 mothership catcher vessels. There is substantial, but not complete, overlap between permit ownership and vessel ownership so there may be a small number of additional small entity vessel owners who will be impacted by this rule. After accounting for cross-fishery participation, multiple Quota Share account holders, and affiliation through ownership, NMFS estimates that there are 103 non-tribal entities directly affected by these regulations (89 of which are considered small entities).

This rule will allocate Pacific whiting between Tribal and non-Tribal harvesters (a mixture of small and large businesses). Tribal fisheries consist of a mixture of fishing activities that are similar to the activities that non-tribal fisheries undertake. Tribal harvests may be delivered to both shoreside plants and motherships for processing. These processing facilities also process fish harvested by non-tribal fisheries. The effect of the Tribal allocation on non-Tribal fisheries will depend on the level of Tribal harvests relative to their allocation and the reapportionment process. If the Tribes do not harvest their entire allocation, there are opportunities during the year to reapportion unharvested Tribal amounts to the non-Tribal fleets. For example, in 2023 NMFS reapportioned 45,000 mt of the original 80,806 mt Tribal allocation (88 FR 75238, November 2, 2023) to the non-Tribal fleets. This reapportionment was based on conversations with the Treaty Tribes and the best information available at the time, which indicated that this amount would not limit Tribal harvest opportunities for the remainder of the year. The reapportioning process allows unharvested Tribal allocations of Pacific whiting to be fished by the non-tribal fleets, benefitting both large and small entities. The revised Pacific whiting allocations for 2023 following the reapportionment were as follows: (1) Tribal 35,806 mt; (2) C/P Co-op 144,566 mt; (3) MS Co-op 102,047 mt; and (4) Shorebased IFQ Program 178,581 mt.

The prices for Pacific whiting are largely determined by the world market because most of the Pacific whiting harvested in the United States is exported. The U.S. Pacific whiting TAC is highly variable, as is subsequent attainment of sector allocations, and ex-vessel revenues. For the years 2013-2023, the U.S. non-tribal commercial fishery sectors averaged harvests of approximately 271,392 mt, and revenues of $54.1 million, annually. The 2023 U.S. non-tribal commercial fishery sectors attained a Pacific whiting catch of approximately 239,665 mt out of a harvest guideline of 380,194 mt (i.e., 63 percent attainment), resulting in a total revenue of $46.6 million. The Tribal fishery landed less than 1,000 mt out of the 2023 Tribal allocation of 80,806 mt.

Impacts to the U.S. non-Tribal fishery are measured with an estimate of ex-vessel revenue. The adjusted coastwide TAC of 555,000 mt results in an adjusted U.S. TAC of 410,034 mt and, after deduction of the Tribal allocation and the incidental catch set-aside, a U.S. non-Tribal harvest guideline of 337,528.05 mt. Using the 2023 weighted-average non-Tribal price of $194.74 per metric ton, the 2024 adjusted U.S. TAC is estimated to result in a potential ex-vessel revenue of $65.7 million for the U.S. non-Tribal fishing fleet if fully harvested (i.e., 100 percent attainment).

Impacts to Tribal catcher vessels who elect to participate in the Tribal fishery are measured with an estimate of ex-vessel revenue. In lieu of more complete information on Tribal deliveries, total ex-vessel revenue is estimated with the 2023 average ex-vessel price of Pacific whiting (i.e., $194.74 per mt). At that price, the 2024 Tribal allocation of 71,755.95 mt would potentially have an ex-vessel value of $13.97 million if fully harvested.

For the allocations to the non-tribal commercial sectors, the Pacific whiting Tribal allocation, and set-asides for research and incidental mortality NMFS considered 2 alternatives: the “No Action” alternative and the “Proposed Action” alternative.

For allocations to non-tribal commercial sectors, the No Action alternative would mean that NMFS would not implement allocations to the non-Tribal sectors based on the JMC recommended U.S. TAC. This is contrary to the Whiting Act and the Agreement, both of which require sustainable management of the Pacific whiting resource. Therefore, the No Action alternative for allocations to non-tribal commercial sectors received no further consideration.

For set-asides for research and incidental mortality, the No Action alternative would mean that NMFS would not implement the set-aside amount of 750 mt recommended by the Council. Not implementing set-asides of the US whiting TAC would mean that incidental mortality of the fish in research activities and non-groundfish fisheries would not be accommodated. This would be inconsistent with the Council's recommendation, the Pacific Coast Groundfish FMP, the regulations setting the framework governing the groundfish fishery, and NMFS' responsibility to manage the fishery. Therefore, the No Action alternative for set-asides received no further consideration.

NMFS did not consider a broader range of alternatives to the proposed Tribal allocation because the Tribal allocation is a percentage of the U.S. TAC and is based primarily on the requests of the Tribes. These requests reflect the level of participation in the fishery that will allow the Tribes to exercise their treaty right to fish for Pacific whiting. Under the Proposed Action alternative, NMFS would set the Tribal allocation percentage at 17.5 percent, as requested by the Tribes. This would yield a Tribal allocation of 71,755.95 mt for 2024. Consideration of a percentage lower than the Tribal request of 17.5 percent is not appropriate in this instance. As a matter of policy, NMFS has historically supported the harvest levels requested by the Tribes. Based on the information available to NMFS, the Tribal request is within their Tribal treaty rights. A higher percentage would arguably also be within the scope of the treaty right. However, a higher percentage would unnecessarily limit the non-Tribal fishery.

Therefore, the No Action alternative would result in no allocation of Pacific whiting to the Tribal sector in 2024, which would be inconsistent with NMFS' responsibility to manage the fishery consistent with the Tribes' treaty rights. Given that there is a Tribal request for allocation in 2024, this No Action alternative for allocation to the Tribal sector received no further consideration and NMFS elected to move forward with the Proposed Action alternative.

Regulatory Flexibility Act Determination of No Significant Impact

NMFS has determined this final rule would not have a significant economic impact on small entities. This rule is similar to previous rulemakings concerning Pacific whiting. In the context of an internationally set TAC, this rule concerns the amount of the U.S. TAC that should be allocated to the Tribal fishery and to a set-aside for research and bycatch in non-groundfish fisheries, and establishes Pacific whiting allocations for the non-Tribal fishery for 2024. With this final rule, NMFS, acting on behalf of the Secretary, determined that the Pacific Coast Groundfish FMP is implemented in a manner consistent with treaty rights of four Treaty Tribes to fish in their “usual and accustomed grounds and stations” in common with non-tribal citizens (United States v. Washington, 384 F. Supp. 313 (W.D. Wash. 1974)). Pacific whiting allocations to the non-Tribal sectors provide additional economic opportunity to the entities considered in this analysis to prosecute a quota species within a multi-species groundfish catch share program. In addition, the reapportioning process allows unharvested Tribal allocations of Pacific whiting, fished by small entities, to be fished by the non-Tribal fleets, potentially providing economic benefits to both large and small entities. NMFS believes this rule will not adversely affect small entities. Thus, as discussed above, this action would not have a significant economic impact on small entities.

This final rule contains no information collection requirements under the Paperwork Reduction Act of 1995.

No Federal rules have been identified that duplicate, overlap, or conflict with this action.

Small Entity Compliance Guide

Section 212 of the Small Business Regulatory Enforcement Fairness Act of 1996 states that, for each rule or group of related rules for which an agency is required to prepare a FRFA, the agency shall publish one or more guides to assist small entities in complying with the rule and shall designate such publications as “small entity compliance guides.” The agency shall explain the actions a small entity is required to take to comply with a rule or group of rules. A small entity compliance guide will be sent to stakeholders, and copies of the final rule and guides (i.e., information bulletins) are available from NMFS at the following website: https://www.fisheries.noaa.gov/species/pacific-whiting#management.

List of Subjects in 50 CFR Part 660

Fisheries, Fishing, Indian fisheries.

Dated: June 13, 2024.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(4) to read as follows:

§ 660.50 Pacific Coast treaty Indian fisheries.

* * * * *

(f) * * *

(4) Pacific whiting. The Tribal allocation for 2024 is 71,755.95 mt.

* * * * *

3. Revise Table 2a to part 660, subpart C—2024, to read as follows:

Table 2a. to Part 660, Subpart C—2024, Specifications of OFL, ABC, ACL, ACT and Fishery Harvest Guidelines (Weights in Metric Tons). Capitalized Stocks Are Overfished
Stocks | Area | OFL | ABC | ACL ᵃ | Fishery HG ᵇ
YELLOWEYE ROCKFISH ᶜ | Coastwide | 91 | 76 | 53.3 | 42.6
Arrowtooth Flounder ᵈ | Coastwide | 20,459 | 14,178 | 14,178 | 12,083
Big Skate ᵉ | Coastwide | 1,492 | 1,267 | 1,267 | 1,207.2
Black Rockfish ᶠ | California (S of 42° N lat.) | 364 | 329 | 329 | 326.6
Black Rockfish ᵍ | Washington (N of 46°16′ N lat.) | 319 | 289 | 289 | 270.5
Bocaccio ʰ | S of 40°10′ N lat | 2,002 | 1,828 | 1,828 | 1,779.9
Cabezon ⁱ | California (S of 42° N lat.) | 185 | 171 | 171 | 169.4
California Scorpionfish ʲ | S of 34°27′ N lat | 280 | 252 | 252 | 248
Canary Rockfish ᵏ | Coastwide | 1,434 | 1,296 | 1,296 | 1,227.4
Chilipepper ˡ | S of 40°10′ N lat | 2,346 | 2,121 | 2,121 | 2,023.4
Cowcod ᵐ | S of 40°10′ N lat | 112 | 79 | 79 | 67.8
Cowcod | (Conception) | 93 | 67 | NA | NA
Cowcod | (Monterey) | 19 | 12 | NA | NA
Darkblotched Rockfish ⁿ | Coastwide | 857 | 782 | 782 | 758.7
Dover Sole ᵒ | Coastwide | 55,859 | 51,949 | 50,000 | 48,402.9
English Sole ᵖ | Coastwide | 11,158 | 8,960 | 8,960 | 8,700.5
Lingcod q | N of 40°10′ N lat | 4,455 | 3,854 | 3,854 | 3,574.4
Lingcod ʳ | S of 40°10′ N lat | 855 | 740 | 722 | 706.5
Longnose Skate ˢ | Coastwide | 1,955 | 1,660 | 1,660 | 1,408.7
Longspine Thornyhead ᵗ | N of 34°27′ N lat | 4,433 | 2,846 | 2,162 | 2,108.3
Longspine Thornyhead ᵘ | S of 34°27′ N lat | 683 | 680.8
Pacific Cod ᵛ | Coastwide | 3,200 | 1,926 | 1,600 | 1,094
Pacific Ocean Perch ʷ | N of 40°10′ N lat | 4,133 | 3,443 | 3,443 | 3,297.5
Pacific Whiting ˣ | Coastwide | 747,588 | (ˣ) | (ˣ) | 337,528.05
Petrale Sole ʸ | Coastwide | 3,563 | 3,285 | 3,285 | 2,898.8
Sablefish ᶻ | N of 36° N lat | 10,670 | 9,923 | 7,730 | See Table 2c.
Sablefish ᵃᵃ | S of 36° N lat |  |  | 2,193 | 2,165.6
Shortspine Thornyhead ᵇᵇ | N of 34°27′ N lat | 3,162 | 2,030 | 1,328 | 1,249.7
Shortspine Thornyhead ᶜᶜ | S of 34°27′ N lat |  |  | 702 | 695.3
Spiny Dogfish ᵈᵈ | Coastwide | 1,883 | 1,407 | 1,407 | 1,055.5
Splitnose ᵉᵉ | S of 40°10′ N lat | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat | 5,795 | 5,291 | 5,291 | 4,263.3
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat | 109 | 91 | 91 | 87.7
Nearshore Rockfish South ᵐᵐ | S of 40°10′ N lat | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat | 1,610 | 1,278 | 1,278 | 1,207
Shelf Rockfish South qq | S of 40°10′ N lat | 1,833 | 1,464 | 1,464 | 1,331.4
Slope Rockfish North ʳʳ | N of 40°10′ N lat | 1,797 | 1,516 | 1,516 | 1,450.6
Slope Rockfish South ˢˢ | S of 40°10′ N lat | 868 | 697 | 697 | 658.1
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT.
ᶜ Yelloweye rockfish. The 53.3 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 42.6 mt. The non-trawl HG is 39.2 mt. The combined non-nearshore/nearshore HG is 8.2 mt. Recreational HGs are: 10 mt (Washington); 9.1 mt (Oregon); and 11.8 mt (California). In addition, the non-trawl ACT is 30.7, and the combined non-nearshore/nearshore ACT is 6.4 mt. Recreational ACTs are: 7.9 mt (Washington), 7.2 (Oregon), and 9.3 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27′ N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,227.4 mt. The combined nearshore/non-nearshore HG is 122.4 mt. Recreational HGs are: 41.8 mt (Washington); 62.9 mt (Oregon); and 112.9 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 758.7 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific hake/whiting. The 2024 OFL of 747,588 mt is based on the 2024 assessment with an F-40 percent of FMSY proxy. The 2024 coastwide adjusted Total Allowable Catch (TAC) is 555,000 mt. The U.S. TAC is 73.88 percent of the coastwide TAC. The 2024 adjusted U.S. TAC is 410,034 mt. From the U.S. TAC, 71,755.95 mt is deducted to accommodate the Tribal fishery, and 750 mt is deducted to accommodate research and bycatch in other fisheries, resulting in a 2024 fishery HG of 337,528.05 mt. The TAC for Pacific whiting is established under the provisions of the Agreement between the Government of the United States of America and the Government of Canada on Pacific Hake/Whiting of 2003 and the Pacific Whiting Act of 2006, 16 U.S.C. 7001-7010, and the international exception applies. Therefore, no ABC or ACL values are provided for Pacific whiting.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 77.9 percent apportioned north of 36° N lat. and 22.1 percent apportioned south of 36° N lat. The northern ACL is 7,730 mt and is reduced by 773 mt for the Tribal allocation (10 percent of the ACL north of 36° N lat.). The 773 mt Tribal allocation is reduced by 1.7 percent to account for discard mortality. Detailed sablefish allocations are shown in table 1c.
ᵃᵃ Sablefish south of 36° N lat. The ACL for the area south of 36° N lat. is 2,193 mt (22.1 percent of the calculated coastwide ACL value). 27.4 mt is deducted from the ACL to accommodate research catch (2.40 mt) and the incidental open access fishery (25 mt), resulting in a fishery HG of 2,165.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,263.3 mt.
ⁱⁱ Black rockfish/Blue rockfish/Deacon rockfish (Oregon). 1.82 mt is deducted from the ACL to accommodate research catch (0.08 mt), and incidental open access mortality (1.74 mt), resulting in a fishery HG of 592.2 mt.
ʲʲ Cabezon/kelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,331.4 mt.
ʳʳ Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

* * * * *

4. Revise Table 2b to part 660, subpart C—2024, to read as follows:

Table 2b. to Part 660, Subpart C—2024, and Beyond, Allocations by Species or Species Group
[Weight in metric tons (mt)]
Stocks/stock complexes | Area | Fishery HG or ACT ᵃ ᵇ | Trawl: % | Trawl: Mt | Non-Trawl: % | Non-Trawl: Mt
YELLOWEYE ROCKFISH ᵃ | Coastwide | 42.6 | 8 | 3.41 | 92 | 39.2
Arrowtooth flounder | Coastwide | 12,083 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,227.4 | 72.3 | 887.4 | 27.7 | 340
Chilipepper rockfish | S of 40°10′ N lat | 2,023.4 | 75 | 1,517.6 | 25 | 505.9
Cowcod ᵃ ᵇ | S of 40°10′ N lat | 67.8 | 36 | 24.4 | 64 | 43.4
Darkblotched rockfish | Coastwide | 758.7 | 95 | 720.8 | 5 | 37.9
Dover sole | Coastwide | 48,402.9 | 95 | 45,982.7 | 5 | 2,420.1
English sole | Coastwide | 8,700.5 | 95 | 8,265.5 | 5 | 435
Lingcod | N of 40′10° N lat | 3,574.4 | 45 | 1,608.5 | 55 | 1,965.9
Lingcod ᵃ | S of 40′10° N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | 337,528.05 | 100 | 337,528.05 | 0 | 0
Petrale sole ᵃ | Coastwide | 2,898.8 |  | 2,868.8 |  | 30
Sablefish | N of 36° N lat | NA | See Table 2c
Sablefish | S of 36° N lat | 2,165.6 | 42 | 909.6 | 58 | 1,256.0
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,263.3 | 88 | 3,751.7 | 12 | 511.6
Other Flatfish | Coastwide | 4,653.2 | 90 | 4,187.9 | 10 | 465.3
Shelf Rockfish ᵃ | N of 40° 10′ N lat | 1,207.1 | 60.2 | 726.7 | 39.8 | 480.4
Shelf Rockfish ᵃ | S of 40° 10′ N lat | 1,331.4 | 12.2 | 162.43 | 87.8 | 1,169.0
Slope Rockfish | N of 40° 10′ N lat | 1,450.6 | 81 | 1,175.0 | 19 | 275.6
Slope Rockfish ᵃ | S of 40° 10′ N lat | 658.1 | 63 | 414.6 | 37 | 243.5
ᵃ Allocations decided through the biennial specification process.
ᵇ The cowcod non-trawl allocation is further split 50:50 between the commercial and recreational sectors. This results in a sector-specific ACT of 21.7 mt for the commercial sector and 21.7 mt for the recreational sector.
ᶜ Consistent with regulations at § 660.55(i)(2), the commercial harvest guideline for Pacific whiting is allocated as follows: 34 percent for the C/P Co-op Program; 24 percent for the MS Co-op Program; and 42 percent for the Shorebased IFQ Program. No more than 5 percent of the Shorebased IFQ Program allocation may be taken and retained south of 42° N lat. before the start of the primary Pacific whiting season north of 42° N lat.

5. In § 660.140, revise paragraph (d)(1)(ii)(D) to read as follows:

§ 660.140 Shorebased IFQ Program.

* * * * *

(d) * * *

(1) * * *

(ii) * * *

(D) Shorebased trawl allocations. For the trawl fishery, NMFS will issue QP based on the following shorebased trawl allocations:

Table 1 to Paragraph (d)(1)(ii)(D)
IFQ species | Area | 2023 Shorebased trawl allocation (mt) | 2024 Shorebased trawl allocation (mt)
YELLOWEYE ROCKFISH | Coastwide | 4.42 | 3.41
Arrowtooth flounder | Coastwide | 15,640.17 | 11,408.87
Bocaccio | South of 40°10′ N lat | 700.33 | 694.87
Canary rockfish | Coastwide | 842.50 | 851.42
Chilipepper | South of 40°10′ N lat | 1,563.80 | 1517.60
Cowcod | South of 40°10′ N lat | 24.80 | 24.42
Darkblotched rockfish | Coastwide | 646.78 | 644.34
Dover sole | Coastwide | 45,972.75 | 45,972.75
English sole | Coastwide | 8,320.56 | 8,265.46
Lingcod | North of 40°10′ N lat | 1,829.27 | 1,593.47
Lingcod | South of 40°10′ N lat | 284.20 | 282.60
Longspine thornyhead | North of 34°27′ N lat | 2,129.23 | 2,002.88
Pacific cod | Coastwide | 1,039.30 | 1,039.30
Pacific halibut (IBQ) ᵃ | North of 40°10′ N lat | TBD | TBD
Pacific ocean perch | North of 40°10′ N lat | 2,956.14 | 2,832.64
Pacific whiting | Coastwide | 159,681.38 | 141,761.78
Petrale sole | Coastwide | 3,063.76 | 2,863.76
Sablefish | North of 36° N lat | 3,893.50 | 3,535.91
Sablefish | South of 36° N lat | 970.00 | 909.55
Shortspine thornyhead | North of 34°27′ N lat | 1,146.67 | 1,117.22
Shortspine thornyhead | South of 34°27′ N lat | 50 | 50
Splitnose rockfish | South of 40°10′ N lat | 1,494.70 | 1,457.60
Starry flounder | Coastwide | 171.86 | 171.86
Widow rockfish | Coastwide | 11,509.68 | 10,367.68
Yellowtail rockfish | North of 40°10′ N lat | 3,761.84 | 3,431.69
Other Flatfish complex | Coastwide | 4,142.09 | 4,152.89
Shelf Rockfish complex | North of 40°10′ N lat | 694.70 | 691.65
Shelf Rockfish complex | South of 40°10′ N lat | 163.02 | 162.43
Slope Rockfish complex | North of 40°10′ N lat | 894.43 | 874.99
Slope Rockfish complex | South of 40°10′ N lat | 417.1 | 414.58
ᵃ Pacific halibut IBQ is set according to 50 CFR 660.55(m).

* * * * *

[FR Doc. 2024-13405 Filed 6-21-24; 8:45 am]

BILLING CODE 3510-22-P